FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 201387.

Agreement Name: HLAG/ONE/Sealand USWC-Mexico and Central America Cooperative Working Agreement.

Parties: Hapag-Lloyd AG; Maersk Line A/S d/b/a Sealand; and Ocean Network Express Pte. Ltd.

Filing Party: Joshua Stein, Cozen O'Connor.

Synopsis: The Agreement authorizes the parties to share vessels and vessel space and to exchange slots on their respective vessels in the trades between ports on the West Coast of the United States, including California on the one hand, and ports on the West Coast of Mexico and Central America, including Guatemala, El Salvador, Nicaragua and Costa Rica, on the other hand.

Proposed Effective Date: 6/23/2022.

Location: https://www2.fmc.gov/FMC.Agreements.Web/Public/AgreementHistory/63507.

Dated: May 20, 2022.
William Cody,
Secretary.

[FR Doc. 2022-11248 Filed 5-24-22; 8:45 am]

BILLING CODE 6730-02-P